ENVIRONMENTAL PROTECTION AGENCY

[EPA-HQ-OLEM-2017-0444; FRL-9967-75-OLEM]

Proposed Information Collection Request; Comment Request; Survey on Clean Water Act Hazardous Substances and Spill Impacts

AGENCY: Environmental Protection Agency (EPA).

ACTION: Notice.

SUMMARY: The Environmental Protection Agency is planning to submit an information collection request (ICR), “Survey on Clean Water Act Hazardous Substances and Spill Impacts” (EPA ICR No. 2566.01, OMB Control No. 2050-New) to the Office of Management and Budget (OMB) for review and approval in accordance with the Paperwork Reduction Act (44 U.S.C. 3501 et seq.). Before doing so, EPA is soliciting public comments on specific aspects of the proposed information collection as described below. This is a request for approval of a new collection. An Agency may not conduct or sponsor and a person is not required to respond to a collection of information unless it displays a currently valid OMB control number.

DATES: Comments must be submitted on or before November 20, 2017.

ADDRESSES: Submit your comments, referencing Docket ID No. EPA-HQ-OLEM-2017-0444 online using www.regulations.gov (our preferred method), or by mail to: EPA Docket Center, Environmental Protection Agency, Mail Code 28221T, 1200 Pennsylvania Ave. NW., Washington, DC 20460.

EPA's policy is that all comments received will be included in the public docket without change including any personal information provided, unless the comment includes profanity, threats, information claimed to be Confidential Business Information (CBI) or other information whose disclosure is restricted by statute.

FOR FURTHER INFORMATION CONTACT: Joe Beaman, OLEM/OEM/RID, (5104A), Environmental Protection Agency, 1200 Pennsylvania Ave. NW., Washington, DC 20460; telephone number: 202-566-0420; email address: beaman.joe@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW., Washington, DC. The telephone number for the Docket Center is 202-566-1744. For additional information about EPA's public docket, visit http://www.epa.gov/dockets.

Pursuant to section 3506(c)(2)(A) of the Paperwork Reduction Act, EPA is soliciting comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. EPA will consider the comments received and amend the ICR as appropriate. The final ICR package will then be submitted to OMB for review and approval. At that time, EPA will issue another Federal Register notice to announce the submission of the ICR to OMB and the opportunity to submit additional comments to OMB.

Abstract: The Clean Water Act (CWA) directs the President to issue regulations “establishing procedures, methods, and equipment and other requirements for equipment to prevent discharges of oil and hazardous substances from . . . onshore facilities and offshore facilities, and to contain such discharges” (33 U.S.C. 1321(j)(1)(C)).

In 1978, EPA promulgated a list of hazardous substances under CWA section 311(b)(2)(A). This list is found at 40 CFR part 116. EPA concurrently proposed requirements to prevent the discharge of listed hazardous substances from facilities subject to permitting requirements under the National Pollutant Discharge Elimination System (NPDES) of the CWA (43 FR 39276); the proposed regulations were never finalized.

On July, 21, 2015, several parties filed a lawsuit against EPA for unreasonable delay/failure to perform a non-discretionary duty to establish regulations for hazardous substances under CWA section 311(j)(1)(C). According to a settlement agreement reached in that case and filed with the United States District Court, Southern District of New York, on February 16, 2016, EPA is to issue a proposed regulatory action no later than June 2018. This action date factors in a 10-month extension for the conduct of an ICR.

EPA is developing a regulatory proposal regarding the spill prevention of hazardous substances. However, EPA does not directly receive reports on specific types and amounts of hazardous substances stored and used at facilities across the country. Much of that information is collected under the Emergency Planning and Community Right-to-Know Act (42 U.S. Code Chapter 116; EPCRA) which requires Tier II facilities to report the maximum and average daily amounts of hazardous chemicals on-site during the preceding year to their respective state or territorial authority. Therefore, the Agency has developed a short voluntary survey to be sent to states, tribes and territories of the United States requesting information on their number and type of EPCRA Tier II facilities with CWA hazardous substances onsite, historical discharges of CWA hazardous substances, the ecological and human health impacts of those discharges, and existing state and tribal programs that address spill prevention of hazardous substances.

This information will assist EPA in determining the universe of facilities nationwide that could potentially be subject to spill prevention regulations for hazardous substances listed at 40 CFR part 116. We anticipate this information will inform the rulemaking process, assisting in the identification of affected entities, evaluation of potential regulatory approaches, and estimating economic impacts.

Form numbers: None.

Respondents/affected entities: Respondents to this voluntary ICR are state, territorial, and tribal government agencies with Emergency Response Commission duties (e.g., State Emergency Response Commission [SERCs], Tribal Emergency Response Commissions [TERCs]), as well as sister agencies within the respective jurisdictions that may have additional information. The state SERC staff identified by EPA Regional liaisons will be the agency's primary point of contact (POC). EPA will assist state POCs in identifying other state and tribal agencies that may have data that would assist in responding to this survey. Examples of other agencies that may assist in responding to this ICR include:

Department of Natural Resources—e.g., fish kill investigations

Department of Environmental Quality—e.g., drinking water alerts, fish kill investigations

Department of Environmental Health—e.g., human health impacts; drinking water shutdowns

Respondent's obligation to respond: Voluntary.

Estimated number of respondents: Approximately 52 (total).

Frequency of response: Once.

Total estimated burden: 82 hours/respondent, 4284 hours total. Burden is defined at 5 CFR 1320.03(b).

Total estimated cost: $1,784.00/respondent, $92,762.00 total, includes $0 annualized capital or operation & maintenance costs.

Dated: September 6, 2017.
Reggie Cheatham,
Director, Office of Emergency Management.

[FR Doc. 2017-20170 Filed 9-20-17; 8:45 am]

BILLING CODE 6560-50-P